DEPARTMENT OF HOMELAND SECURITY

[Docket No. DHS-2015-0017]

Notice of Public Meeting Regarding Standards for Information Sharing and Analysis Organizations

AGENCY: Office of Cybersecurity and Communications, National Protection and Programs Directorate, Department of Homeland Security.

ACTION: Notice of public meeting.

SUMMARY: In accordance with EO 13691, DHS has entered into a cooperative agreement with a non-governmental ISAO Standards Organization led by the University of Texas at San Antonio with support from the Logistics Management Institute (LMI) and the Retail Cyber Intelligence Sharing Center (R-CISC). This Notice announces the ISAO Standards Organization's initial public meeting on November 9, 2015 to discuss Standards for the development of ISAOs, as related to Executive Order 13691, “Promoting Private Sector Cybersecurity Information Sharing” of February 13, 2015. This meeting builds off of the workshops held on June 9, 2015 at the Volpe Center in Cambridge, MA; and July 30, 2015 at San Jose State University in San Jose, CA.

DATES: The meeting will be held on November 9, 2015, from 8:00 a.m. to 5:00 p.m. The meeting may conclude before the allotted time if all matters for discussion have been addressed.

ADDRESSES: The meeting location is LMI Headquarters at 7940 Jones Branch Drive, Tysons, VA 22102. See Supplementary Information section for the address to submit written or electronic comments.

SUPPLEMENTARY INFORMATION: Executive Order 13691 can be found at: https://www.whitehouse.gov/the-press-office/2015/02/13/executive-order-promoting-private-sector-cybersecurity-information-shari.

FOR FURTHER INFORMATION CONTACT: If you have questions concerning the meeting, please contact ISAO@lmi.org.

Background and Purpose

On February 13, 2015, President Obama signed Executive Order 13691 intended to enable and facilitate “private companies, nonprofit organizations, and executive departments and agencies . . . to share information related to cybersecurity risks and incidents and collaborate to respond in as close to real time as possible.”

At the Standards Organization's initial public meeting, they intend to review the results of previous DHS-hosted public workshops, and share a proposed standards framework and standards development process. In addition, they will solicit suggestions on existing standards, guidelines, and best practices that can be shared as provisional guidance until formal ISAO standards are established. Minutes from this meeting will be made available to the public.

Information on Service for Individuals With Disabilities

For information on facilities or services for individuals with disabilities or to request special assistance at the public meeting, contact ISAO@lmi.org and write “Special Assistance” in the subject box or contact the meeting coordinator at the FOR FURTHER INFORMATION CONTACT section of this notice.

Meeting Details

Members of the public may attend this meeting by RSVP only up to the seating capacity of the room. The Breakout Panels that take place in the LMI Conference Facility will be audio recorded. The audio recordings will be made available on the DHS ISAO Web page, DHS.gov/ISAO. A valid government-issued photo identification (for example, a driver's license) will be required for entrance to the meeting space. Those who plan to attend should RSVP through the link provided on the ISAO Web page DHS.gov/ISAO or at LMI's registration page www.lmi.org/ISAO-Registration no later than 5 days prior to the meeting. Requests made after November 4, 2015 might not be able to be accommodated.

DHS and the ISAO Standards Organization encourages you to participate in this meeting by submitting comments to the ISAO inbox (ISAO@lmi.org), commenting orally, or submitting written comments to the DHS personnel attending the meeting who are identified to receive them.

Submitting Written Comments

You may also submit written comments to the docket using any one of the following methods:

(1) Federal eRulemaking Portal: http://www.regulations.gov. Although comments are being submitted to the Federal eRulemaking Portal, this is a tool to provide transparency to the general public, not because this is a rulemaking action.

(2) Email: ISAO@lmi.org. Include the docket number in the subject line of the message.

(3) Mail: ISAO Standards Organization, c/o LMI, 1777 NE Loop 410, Suite 808, San Antonio, TX 78217-5217.

To avoid duplication, please use only one of these three methods. All comments must either be submitted to the online docket on or before November 4, 2015, or reach the Docket Management Facility by that date.

Authority: 6 U.S.C. 131-134; 6 CFR 29; E.O.13691.

Dated: October 20, 2015.
Andy Ozment,
Assistant Secretary, Cybersecurity and Communications, National Protection and Programs Directorate, Department of Homeland Security.

[FR Doc. 2015-27102 Filed 10-23-15; 8:45 am]

BILLING CODE 9110-9P-P